DEPARTMENT OF JUSTICE

Drug Enforcement Administration

[Docket No. DEA-793]

Importer of Controlled Substances Application: VHG Labs DBA LGC Standards

AGENCY: Drug Enforcement Administration, Justice.

ACTION: Notice of application.

SUMMARY: VHG Labs DBA LGC Standards has applied to be registered as an importer of basic class(es) of controlled substance(s). Refer to Supplemental Information listed below for further drug information.

DATES: Registered bulk manufacturers of the affected basic class(es), and applicants therefore, may file written comments on or objections to the issuance of the proposed registration on or before March 22, 2021. Such persons may also file a written request for a hearing on the application on or before March 22, 2021.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on February 2, 2021, VHG Labs DBA LGC Standards, 3 Perimeter Road, Manchester, New Hampshire 03103, applied to be registered as an importer of the following basic class(es) of controlled substance(s):

Controlled substance | Drug code | Schedule
Cathinone | 1235 | I
Methcathinone | 1237 | I
Naphyrone | 1258 | I
N-Ethylamphetamine | 1475 | I
JWH-250 (1-Pentyl-3-(2-methoxyphenylacetyl) indole) | 6250 | I
SR-18 (Also known as RCS--8) (1-Cyclohexylethyl-3-(2-methoxyphenylacetyl) indole) | 7008 | I
APINACA and AKB48 N-(1-Adamantyl)-1-pentyl-1H-indazole-3-carboxamide | 7048 | I
JWH-081 (1-Pentyl-3-(1-(4-methoxynaphthoyl) indole) | 7081 | I
SR-19 (Also known as RCS-4) (1-Pentyl-3-[(4-methoxy)-benzoyl] indole | 7104 | I
JWH-018 (also known as AM678) (1-Pentyl-3-(1-naphthoyl)indole) | 7118 | I
JWH-122 (1-Pentyl-3-(4-methyl-1-naphthoyl) indole) | 7122 | I
UR-144 (1-Pentyl-1H-indol-3-yl)(2,2,3,3-tetramethylcyclopropyl)methanone | 7144 | I
JWH-203 (1-Pentyl-3-(2-chlorophenylacetyl) indole) | 7203 | I
Ibogaine | 7260 | I
Lysergic acid diethylamide | 7315 | I
Marihuana Extract | 7350 | I
Marihuana | 7360 | I
Tetrahydrocannabinols | 7370 | I
Mescaline | 7381 | I
JWH-398 (1-Pentyl-3-(4-chloro-1-naphthoyl) indole) | 7398 | I
3,4-Methylenedioxymethamphetamine | 7405 | I
5-Methoxy-N-N-dimethyltryptamine | 7431 | I
Psilocyn | 7438 | I
4-Methyl-alphapyrrolidinopropiophenone (4-MePPP) | 7498 | I
MDPV (3,4-Methylenedioxypyrovalerone) | 7535 | I
Methylone (3,4-Methylenedioxy-N-methylcathinone) | 7540 | I
Butylone | 7541 | I
Pentylone | 7542 | I
Codeine-N-oxide | 9053 | I
Desomorphine | 9055 | I
Dihydromorphine | 9145 | I
Heroin | 9200 | I
Morphine-N-oxide | 9307 | I
Normorphine | 9313 | I
Tilidine | 9750 | I
Alpha-methylfentanyl | 9814 | I
Acetyl Fentanyl (N-(1-phenethylpiperidin-4-yl)-N-phenylacetamide) | 9821 | I
Methamphetamine | 1105 | II
Phenmetrazine | 1631 | II
Methylphenidate | 1724 | II
Amobarbital | 2125 | II
Pentobarbital | 2270 | II
Secobarbital | 2315 | II
Glutethimide | 2550 | II
Phencyclidine | 7471 | II
4-Anilino-N-phenethyl-4-piperidine (ANPP) | 8333 | II
Norfentanyl | 8366 | II
Phenylacetone | 8501 | II
Codeine | 9050 | II
Dihydrocodeine | 9120 | II
Diphenoxylate | 9170 | II
Ecgonine | 9180 | II
Ethylmorphine | 9190 | II
Hydrocodone | 9193 | II
Levorphanol | 9220 | II
Meperidine | 9230 | II
Meperidine intermediate-B | 9233 | II
Meperidine intermediate-C | 9234 | II
Methadone intermediate | 9254 | II
Dextropropoxyphene, bulk (non-dosage forms) | 9273 | II
Morphine | 9300 | II
Thebaine | 9333 | II
14-Hydroxmorphone | 9665 | II
Noroxymorphone | 9668 | II
Sufentanil | 9740 | II
Fentanyl | 9801 | II

The company plans to import the listed controlled substances for sale to research facilities for drug testing and analysis. In reference to drug codes 7360 (Marihuana) and 7370 (Tetrahydrocannabinols) the company plans to import a synthetic cannabidiol and a synthetic tetrahydrocannabinol. No other activities for these drug codes are authorized for this registration.

Approval of permit applications will occur only when the registrant's business activity is consistent with what is authorized under 21 U.S.C. 952(a)(2). Authorization will not extend to the import of Food and Drug Administration-approved or non-approved finished dosage forms for commercial sale.

William T. McDermott,
Assistant Administrator.

[FR Doc. 2021-03381 Filed 2-18-21; 8:45 am]

BILLING CODE 4410-09-P